DEPARTMENT OF ENERGY

National Nuclear Security Administration

Defense Programs Advisory Committee

AGENCY: Department of Energy, National Nuclear Security Administration, Office of Defense Programs.

ACTION: Notice of closed meeting.

SUMMARY: This notice announces a closed meeting of the Defense Programs Advisory Committee (DPAC). The Federal Advisory Committee Act requires that public notice of meetings be announced in the Federal Register. Due to national security considerations, the meeting will be closed to the public and matters to be discussed are exempt from public disclosure under an Executive Order, and the Atomic Energy Act of 1954.

DATES: April 6, 2022; 1:00 p.m. to 4:00 p.m.

ADDRESSES: Microsoft Teams Video Conferencing.

FOR FURTHER INFORMATION CONTACT: Ms. Watti Hill, Office of Strategic Partnership Programs (NA-10.1) National Nuclear Security Administration, U.S. Department of Energy, 1000 Independence Ave. SW, Washington, DC 20585, (202) 586-8266; watti.hill@nnsa.doe.gov.

SUPPLEMENTARY INFORMATION:

Background: The DPAC provides advice and recommendations to the Deputy Administrator for Defense Programs on topics related to Defense Programs mission areas and those of the National Nuclear Security Administration.

Purpose of the Meeting: The Quarterly meeting of the Defense Programs Advisory Committee (DPAC) will cover the current status of Committee activities as well as additional charges and is expected to contain discussions of a sensitive nature.

Type of Meeting: In the interest of national security, the meeting will be closed to the public. The Federal Advisory Committee Act, 5 U.S.C. App. 2, section 10(d), and the Federal Advisory Committee Management Regulation, 41 CFR 102-3.155, incorporate by reference the Government in the Sunshine Act, 5 U.S.C. 552b, which, at 552b(c)(1) and (c)(3) permits closure of meetings where restricted data or other classified matters will be discussed.

Tentative Agenda: Welcome; Headquarters and DPAC Updates; discussion of reports and current actions; discussion of next charges; conclusion.

Public Participation: There will be no public participation in this closed meeting. Those wishing to provide written comments or statements to the Committee are invited to send them to Ms. Watti Hill at the address listed above.

Minutes: The minutes of the meeting will not be available.

Signed in Washington, DC, on March 15, 2022.
LaTanya Butler,
Deputy Committee Management Officer.

[FR Doc. 2022-05860 Filed 3-23-22; 8:45 am]

BILLING CODE 6450-01-P